ENVIRONMENTAL PROTECTION AGENCY

40 CFR Part 51

[EPA-HQ-OAR-2004-0489; FRL-9795-9]

RIN 2060-AR29

Revisions to the Air Emissions Reporting Requirements: Revisions to Lead (Pb) Reporting Threshold and Clarifications to Technical Reporting Details

AGENCY: Environmental Protection Agency (EPA).

ACTION: Proposed rule.

SUMMARY: Today's action proposes changes to the existing EPA emission inventory reporting requirements on state, local, and tribal agencies in the current Air Emissions Reporting Requirements rule published on December 17, 2008. The proposed amendments would lower the current threshold for reporting Pb sources as point sources; eliminate the requirement for reporting emissions from wildfires and prescribed fires; and replace a requirement for reporting mobile source emissions with a requirement for reporting the input parameters that can be used to run the EPA models that generate the emissions estimates. In addition, the proposed amendments would reduce the reporting burden on state, local, and tribal agencies by removing the requirements to report daily and seasonal emissions associated with carbon monoxide (CO), ozone (O3), and particulate matter up to 10 micrometers in size (PM10) nonattainment areas and nitrogen oxides (NOX) State Implementation Plan (SIP) call areas, although reporting requirements for those emissions would remain in other regulations. Lastly, the proposed amendments would clarify, remove, or simplify some current emissions reporting requirements which we believe are not necessary or are not clearly aligned with current inventory terminology and practices.

DATES: Comments must be received on or before August 19, 2013. Under the Paperwork Reduction Act, comments on the information collection request must be received by EPA and OMB on or before July 22, 2013.

The EPA will hold a public hearing on today's proposal only if requested by July 1, 2013.

ADDRESSES: Submit your comments, identified by Docket ID No. EPA-HQ-OAR-2004-0489, by one of the following methods:

• www.regulations.gov: Follow the online instructions for submitting comments.

• Email: a-and-r-docket@epa.gov.

• Fax: (202) 566-9744.

• Mail: Air Emissions Reporting Requirements Rule, Docket No. EPA-HQ-OAR-2004-0489, Environmental Protection Agency, Mailcode: 2822T, 1200 Pennsylvania Ave. NW., Washington, DC 20460. Please include two copies.

• Hand Delivery: Docket No. EPA-HQ-OAR-2004-0489, EPA Docket Center, Public Reading Room, EPA West, Room 3334, 1301 Constitution Ave. NW., Washington, DC 20460. Such deliveries are only accepted during the Docket's normal hours of operation, and special arrangements should be made for deliveries of boxed information.

Instructions: Direct your comments to Docket ID No. EPA-HQ-OAR-2004-0489. The EPA's policy is that all comments received will be included in the public docket without change and may be made available online at www.regulations.gov, including any personal information provided, unless the comment includes information claimed to be Confidential Business Information (CBI) or other information whose disclosure is restricted by statute. Do not submit information that you consider to be CBI, or otherwise protected, through www.regulations.gov or email. The www.regulations.gov Web site is an “anonymous access” system, which means the EPA will not know your identity or contact information unless you provide it in the body of your comment. If you send an email comment directly to the EPA without going through www.regulations.gov, your email address will be automatically captured and included as part of the comment that is placed in the public docket and made available on the Internet. If you submit an electronic comment, the EPA recommends that you include your name and other contact information in the body of your comment as well as with any disk or CD-ROM you submit. If the EPA cannot read your comment due to technical difficulties and cannot contact you for clarification, the EPA may not be able to consider your comment. Electronic files should avoid the use of special characters, any form of encryption, and be free of any defects or viruses.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Air Emissions Reporting Requirements Rule Docket, EPA/DC, EPA West, Room 3334, 1301 Constitution Ave. NW., Washington, DC 20460. The Public Reading Room is open from 8:30 a.m. to 4:30 p.m., Monday through Friday, excluding legal holidays. The telephone number for the Public Reading Room is (202) 566-1744, and the telephone number for the Air Docket is (202) 566-1742.

FOR FURTHER INFORMATION CONTACT: Mr. Ron Ryan, Office of Air Quality Planning and Standards, Air Quality Assessment Division, Emission Inventory and Analysis Group (C339-02), U.S. Environmental Protection Agency, Research Triangle Park, NC 27711; telephone number: (919) 541-4330; email: ryan.ron@epa.gov.

SUPPLEMENTARY INFORMATION:

Table of Contents

I. General Information

A. Does this action apply to me?

B. What should I consider as I prepare my comments for the EPA?

C. Where can I get a copy of this document?

D. Will there be a public hearing?

II. Background and Purpose of This Rulemaking

III. Proposed Revisions to Emissions Reporting Requirements

A. Lower Point Source Threshold for Lead Emitters

B. Elimination of Reporting for Wildfires and Prescribed Fires and Clarification for Reporting Agricultural Fires

C. Reporting Emission Model Inputs for Onroad and Nonroad Sources

D. Removal of Requirements To Report Daily and Seasonal Emissions

E. Revisions To Simplify Reporting and Provide Consistency With EIS

IV. Statutory and Executive Order Reviews

A. Executive Order 12866: Regulatory Planning and Review and Executive Order 13563: Improving Regulations and Regulatory Review

B. Paperwork Reduction Act

C. Regulatory Flexibility Act

D. Unfunded Mandates Reform Act

E. Executive Order 13132: Federalism

F. Executive Order 13175: Consultation and Coordination With Indian Tribal Governments

G. Executive Order 13045: Protection of Children From Environmental Health and Safety Risks

H. Executive Order 13211: Actions Concerning Regulations That Significantly Affect Energy Supply, Distribution, or Use

I. National Technology Transfer and Advancement Act

J. Executive Order 12898: Federal Actions To Address Environmental Justice in Minority Populations and Low-Income Populations

I. General Information

A. Does this action apply to me?

Categories and entities potentially regulated by this action include:

Category | NAIC code ᵃ | Examples of regulated entities
State/local/tribal government | 92411 | State, territorial, and local government air quality management programs. Tribal governments are not affected, unless they have sought and obtained treatment as state status under the Tribal Authority Rule and, on that basis, are authorized to implement and enforce the Air Emissions Reporting Requirements rule.
ᵃ North American Industry Classification System.

This table is not intended to be exhaustive, but rather provides a guide for readers regarding entities likely to be regulated by this action.¹ This action requires states to report their emissions to us. It is possible that some states will require facilities within their jurisdictions to report emissions to the states. To determine whether your facility would be regulated by this action, you should examine the applicability criteria in 40 CFR 51.1. If you have any questions regarding the applicability of this action to a particular entity, consult the person listed in the preceding FOR FURTHER INFORMATION CONTACT section.

¹ As prescribed by the Tribal Authority Rule (63 FR 7253, February 12, 1998), codified at 40 CFR part 49, subpart A, tribes may elect to seek Treatment as State (TAS) status and obtain approval to implement rules such as the AERR through a Tribal Implementation Plan (TIP), but tribes are under no obligation to do so. However, those tribes that have obtained TAS status are subject to the AERR to the extent allowed in their TIP. Accordingly, to the extent a tribal government has applied for and received TAS status for air quality control purposes and is subject to the AERR under its TIP, the use of the term state(s) in the AERR shall include that tribal government.

B. What should I consider as I prepare my comments for the EPA?

1. Expedited Review. To expedite review of your comments by agency staff, you are encouraged to send a separate copy of your comments, in addition to the copy you submit to the official docket, to Mr. Ron Ryan, U.S. EPA, Office of Air Quality Planning and Standards, Air Quality Assessment Division, Emission Inventory and Analysis Group, Mail Code C339-02, Research Triangle Park, NC 27711; telephone: (919) 541-4330; email: ryan.ron@epa.gov.

2. Submitting CBI. Do not submit this information to the EPA through http://www.regulations.gov or email. Clearly mark any of the information that you claim to be CBI. For CBI information in a disk or CD ROM that you mail to the EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

3. Tips for Preparing Your Comments. When submitting comments, remember to:

• Identify the rulemaking by docket number and other identifying information (subject heading, Federal Register date and page number).

• Follow directions—The agency may ask you to respond to specific questions or organize comments by referencing a Code of Federal Regulations (CFR) part or section number.

• Explain why you agree or disagree, suggest alternatives, and substitute language for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible, avoiding the use of profanity or personal threats.

• Make sure to submit your comments by the comment period deadline identified.

C. Where can I get a copy of this document?

In addition to being available in the docket, an electronic copy of this proposed rule will also be available on the Worldwide Web (WWW) through the Technology Transfer Network (TTN). Following signature, a copy of this proposed rule will be posted on the TTN's policy and guidance page for newly proposed or promulgated rules at the following address: http://www.epa.gov/ttn/chief/. The TTN provides information and technology exchange in various areas of air pollution control. If more information regarding the TTN is needed, call the TTN HELP line at (919) 541-4814.

D. Will there be a public hearing?

The EPA will hold a public hearing on today's proposal only if requested by July 1, 2013. The request for a public hearing should be made in writing and addressed to Mr. Ron Ryan, U.S. EPA, Office of Air Quality Planning and Standards, Air Quality Assessment Division, Emission Inventory and Analysis Group, Mail Code C339-02, Research Triangle Park, NC 27711. The hearing, if requested, will be held on a date and at a place published in a separate Federal Register notice.

II. Background and Purpose of This Rulemaking

The EPA promulgated the Air Emissions Reporting Requirements (AERR) in the Federal Register at 73 CFR 76539, on December 17, 2008, in order to consolidate and harmonize the emissions reporting requirements of the NOX SIP Call (40 CFR 51.122) and the Consolidated Emissions Reporting Rule (40 CFR part 51, subpart A) with the needs of the Clean Air Interstate Rule (CAIR). These amendments are being proposed to align the AERR with the National Ambient Air Quality Standard for Lead (73 FR 66964, November 12, 2008) and the associated Revisions to Lead Ambient Air Monitoring Requirements (75 FR 81126), and because use of the previous AERR over the past few years has revealed needed improvements that will both reduce burden on states and local air agencies as well as make minor technical corrections that reflect what has been put into practice through existing electronic reporting implementation.

The proposed amendments would lower the current threshold for reporting stationary Pb sources as point sources to align with and support the requirements of the 2008 revisions to the National Ambient Air Quality Standard for Lead (73 FR 66964, November 12, 2008) and the associated Revisions to Lead Ambient Air Monitoring Requirements (75 FR 81126) for source-oriented monitors.

The proposed amendments would also clarify, remove, or simplify some emissions reporting requirements in the current AERR which we believe are not necessary or are not clearly aligned with current inventory terminology and practices. Most of these clarifications are revisions to the names of the specific data elements reported to promote consistency with the element names as implemented in the electronic reporting schema used by the Emission Inventory System (EIS).

As this requirement was unclear in the current AERR, we are proposing to eliminate the requirement for reporting emissions from wildfires and prescribed fires, clarifying that they may be optionally reported using only the final design implemented in EIS for those two source categories.

We are also proposing to replace a requirement that state and local agencies submit mobile source emissions with a new requirement to report the input parameters that can be used to run the EPA models that generate the emissions estimates.

To reduce the reporting burden on state and local agencies, we are proposing to remove the requirements to submit daily and seasonal emissions values.

To promote consistency with terminology used in the EIS and to remove several items proposed to become optional rather than required, we are proposing to revise and simplify three tables to subpart A of part 51.

III. Proposed Revisions to Emissions Reporting Requirements

A. Lower Point Source Threshold for Lead Emitters

The current AERR threshold for determining if a stationary source of Pb emissions must be reported as an individual point source rather than as part of a county-aggregate nonpoint source, is 5 tons per year (tpy). As with the other required pollutants, that threshold determination is based on potential to emit, although the emissions reported are the actual emissions. In 2010, the EPA finalized the Revisions to Lead Ambient Air Monitoring Requirements rule (75 FR 81126), which required monitoring agencies to install and operate source-oriented ambient monitors near Pb sources emitting 0.50 tpy or more by December 27, 2011. The EPA is proposing to lower the AERR emissions threshold for reporting Pb emitters to match the 0.50 tpy threshold in the revised ambient air monitoring requirements. This would allow the EPA to evaluate and provide proper oversight of the ambient monitoring network design finalized in the revised ambient air monitoring requirements. The EPA expects that only about 30 additional facilities nationwide would be required to be reported as point sources due to this change, since most of the sources emitting Pb greater than 0.5 tpy are already reported as point sources due to their emissions of other criteria pollutants. The current AERR already requires all criteria pollutants (including Pb) to be reported for a facility that emits any one criteria pollutant greater than the relevant threshold.

B. Elimination of Reporting for Wildfires and Prescribed Fires and Clarification for Reporting Agricultural Fires

The current AERR requires states to report emissions from wildfires and agricultural fires as either point or nonpoint sources, with the point source method being encouraged. The current AERR does not explicitly mention prescribed fires, but a review of both Federal Register notices proposing and finalizing the AERR (71 FR 69 and 73 FR 76539, respectively) indicate that the intent was to require wildfires and prescribed fires to be reported as either point or nonpoint sources, with no explicit mention of agricultural fires. In addition to correcting this erroneous switching of agricultural fires for the intended prescribed fires, the EPA is also proposing to eliminate the requirement for wildfires and prescribed fires to be reported by states. The EPA already provides nationwide estimates for wildfires and prescribed fires using information it has, so requiring states to also report these data is not necessary. States are encouraged to review and comment on the EPA's estimates, or to report their own estimates if they so choose. In addition, we propose to clarify that reporting of these two fire types can only be made via the Events source type. Events is a new source reporting format created in the EIS data system to accommodate the day-specific emission details needed for the NEI to accurately reflect these large-scale, but short-term, emission events. We also propose to clarify that agricultural fires continue to be required to be reported, but as nonpoint sources only. Agricultural fires cannot be reported as point sources, and we are unaware of any state that wishes to do so.

C. Reporting Emission Model Inputs for Onroad and Nonroad Sources

We are proposing to replace the current requirement for states to report emissions for onroad and nonroad sources with a requirement that they report the input parameters that can be used in the EPA models to generate the emissions values. Reporting the emissions values would become voluntary. California and tribal agencies must continue to report emissions rather than model inputs because the EPA models are not applicable to California, and the county-specific inputs required by EIS for these models are not applicable to tribal areas. We are also proposing that in lieu of submitting any data, states may accept the EPA's emission estimates for mobile sources. States are encouraged to review and comment on the EPA's estimates and inputs.

As the states are already required to use the EPA models, the inputs needed to run those models are already available for submission. We expect that there will be less burden on the states to report the model inputs rather than the resultant emissions values, as the model input files are much smaller and more manageable than the output emission files. The current AERR allows states the option to report the model inputs in lieu of the emissions values. Nineteen states submitted some model inputs for the 2008 NEI.

Requiring states to provide model inputs rather than only the resultant emissions values will also reduce the costs and improve the accuracy and timeliness of the EPA's air quality planning efforts. Having the model inputs allows the EPA to use the latest version of the applicable models to generate the most accurate emission outputs. Requiring reporting of the model inputs also allows the EPA to generate consistent base year and future year emission estimates that are necessary for performing accurate benefits estimates for proposed regulations.

D. Removal of Requirements To Report Daily and Seasonal Emissions

In addition to requiring all states to report annual emissions for all source types on a triennial cycle, the current AERR also requires the reporting of daily or seasonal emissions to be reported for a subset of geographic areas. States subject to the NOX SIP Call are required by the AERR to report 5-month O3 season and summer day NOX emissions every year, and summer day NOX and volatile organic compound (VOC) emissions every third year. States with an 8-hour O3 nonattainment area are required by the AERR to report summer day NOX and VOC emissions for all counties that were covered by the nonattainment area modeling domain that was used to demonstrate Reasonable Further Progress (RFP) every third year. States with CO nonattainment areas and states with CO attainment areas subject to maintenance plans are required by the AERR to report winter work weekday CO emissions every third year. The underlying needs for these daily and seasonal emissions values are derived from requirements in the NOX SIP Call rule, the O3 NAAQS Implementation rule, and the CO NAAQS Implementation rule, respectively.

We are proposing to delete all of the daily and seasonal emissions reporting requirements from the AERR and to replace those requirements with statements that the states can choose to meet the underlying periodic inventory reporting requirements of those three other rules by reporting via the AERR. The current O3 and CO NAAQS Implementation rules, and the proposed changes to the NOx SIP Call, would continue to require states to report the emissions in a format and on a schedule as required by those rules to ensure compliance with those rules. Each of the three underlying rules already requires states to show and track consistency with the emissions projections contained in approved SIP submissions, and also contains requirements for public review of SIP revisions. Given these specific requirements in individual rules, the EPA believes that also requiring submittal of these daily and seasonal emissions values in a format and under a schedule prescribed by the existing AERR and the EIS data system can be unfeasible in practice and is likely to introduce significant inaccuracies and confusion. In addition, the periodic emissions data and documentation that states are required to submit to their EPA Regional Offices under the two existing NAAQS implementation rules and the proposed changes to the NOx SIP Call are sufficient to demonstrate compliance with those rules and, thus, make the existing AERR requirement unnecessary.

E. Revisions To Simplify Reporting and Provide Consistency With EIS

The AERR was finalized on December 17, 2008, prior to the finalization of the design details of the EIS data system that is used to collect and store the required data. As a result, the EPA is proposing a number of changes to provide consistency between the AERR reporting mechanism and the EIS data collection system and, thus, simplify emissions reporting. There were a number of inconsistencies between the AERR and the EIS data system in the terminology used for some data elements. Some compound data elements in the AERR were separated into more discrete and less ambiguous elements in the EIS. In addition, a few data elements necessary for inclusion in the EIS data system, in order to fully describe related required data elements, were not explicitly listed in the AERR, and some AERR data elements that were listed as required for state reporting have since been determined to be obtainable by the EPA by other methods. The proposed removal of requirements to report the O3 and CO typical day SIP emissions and the NOx SIP Call seasonal emissions, via this AERR reporting mechanism and the EIS data system as described above, make it necessary to remove several other data elements from the AERR requirements, although they are still available in the EIS as optional data elements.

1. Revised Formats for Appendix A Tables

The EIS data system was designed such that data elements that had not changed from one reporting period to the next need not be re-submitted. Only data elements that have changed need be reported. This streamlined reporting structure, along with the terminology changes, requirements deletions, and other consistency revisions described above, created a need for the EPA to revise Tables 1, 2a, 2b and 2c in Appendix A of the AERR. Table 1 still defines the emissions thresholds that determine the Type A point source emissions required to be reported each year. In addition, it now includes the thresholds used to determine the Type B sources required to be reported as point sources every third year. These Type B point source thresholds had previously been included as part of the definition of the term “point source.” In the revised Table 1, we have clarified the name of the two PM pollutants by including “primary.” This is consistent with the existing list of required pollutants described in § 51.15.

Table 2a has been revised to include only the point source facility inventory data elements that are required to be in EIS, without regard to either the every-year or triennial reporting cycles, since these elements need only be reported for any new point source or when any change occurs at an existing point source. The emissions data element requirements for point sources from Table 2a have been combined with the emissions requirements for the other three emissions source types in Table 2b. The need for Table 2c is eliminated by the proposed revisions to Table 2b. We have also eliminated the separate columns for “Every-year reporting” and “Three-year reporting” from Tables 2a and 2b. Those reporting cycle distinctions were only applicable to Type A point sources, and with the proposed revisions, Table 1 now describes all of the necessary distinctions.

2. Addition of New Facility Inventory Elements

For the Facility Inventory data elements listed in Table 2a, which need to be reported only for new point sources or when a change occurs, we are proposing to add new operating statuses to the AERR: Facility Site Status, Release Point Status, and Unit Status, along with the year in which any of these three items changes from “Operating” to some other status. These operating statuses are used by the states to indicate whether emissions reports should continue to be expected for a facility, emissions unit, or release point, or the reason why emissions will not be reported after the year indicated.

We are also proposing to add Aircraft Engine Type, Unit Type, and Release Point Apportionment Percent to the Facility Inventory data elements listed in Table 2a. Aircraft Engine Type is a code that provides a further level of detail of the existing required element Source Classification Code (SCC), which describes the emitting processes. The Aircraft Engine Type code is one of the inputs to the emissions estimation model that is used to estimate aircraft emissions during landing and take-off cycles. The EPA does not require states to report aircraft engine emissions as point sources, but, instead, produces its own set of aircraft engine estimates and provides states the opportunity to comment on those estimates and to submit their own estimates if they choose. If states choose to submit their own estimates, they would have to provide the Aircraft Engine Type code along with the SCC in order to completely specify the emitting process.

Unit Type is a data element added to the EIS to more easily and explicitly identify the type of emission unit producing the emissions than can be inferred from the SCC. The EPA populated the Unit Type field in the original version of the EIS Facility Inventory using the SCC code. It is expected that states will know the Unit Type for any new emission units that they add, but they do have an option to report an “unclassified” type. To reduce burden, we are also proposing to limit the existing requirement for reporting the Unit Design Capacity for all units to only reporting capacities for a limited number of key unit types. The Unit Type element is necessary for the EIS data system to be able to make the distinction of when unit design capacity would still be required.

Release Point Apportionment Percent is a data element added to the EIS at the request of some state reporters. The previous data system allowed a given emission process to exhaust to only a single release point. However, the EIS data system allows states the option to split the emissions from a single emission process to as many release points as desired by reporting the percentage going to each release point. The vast majority of processes exhaust 100 percent to a single release point. The EPA populated the original version of the EIS Facility Inventory using this value, which was the only possible interpretation from the previous data system and reports. Although the current reporting rule does not explicitly list a data element, it was always necessary for states to indicate the release point that each process exhausted through, and the 100 percent was assumed. This new data element is necessary to support the new option in EIS that allows for more than one release point to be specified by the state.

3. Addition of New Emissions Elements

For the Emissions data elements listed in Table 2b, we are proposing to add five new items, four of which we believe to be minor extensions or clarifications of existing requirements necessary to avoid ambiguity in the EIS data system. The EPA believes that these new items will not add any new information collection burden. The four items are: Shape Identifiers, Emission Type, Reporting Period Type, and Emission Operating Type. Shape Identifiers are a more detailed method of identifying the geographic area for which emissions are being reported than the entire county for nonpoint sources. The EPA believes that they are needed for a small number of nonpoint sources, such as rail lines, ports, and underway vessels, which occur only in a small and identifiable portion of a full county. Although states are still required to report emissions for these sources, we are also proposing to add language to the AERR to allow states to meet the requirements for reporting some of their nonpoint sources by accepting the EPA's estimates for the sources for which the EPA makes calculations. For the nonpoint sources needing the more geographically-detailed emissions, the EPA has provided tables describing the geographic entities and their identifiers and has also estimated emissions for each of the entities. The EPA provides states the opportunity to comment on the EPA estimates and to submit their own estimates if they choose. If states choose to submit their own estimates, they would have to provide the extra geographic detail described by the Shape Identifiers.

Emission Type is a code that is a further level of detail of the existing required element SCC, which identifies the emitting processes. Note that we are also proposing to revise the definition of this term in § 51.50, since the existing definition actually describes the Reporting Period Type and not the Emission Type.

Reporting Period Type is a code that identifies whether the emissions being reported are an annual total or one of the seasonal or daily type emissions that we are proposing to make optional, although they may still be required as part of the state's own SIP rules. The current AERR includes reporting of this code for point sources using the erroneous name Emission Type in Table 2a. Although neither Emission Type nor Reporting Period Type terms appear in the current Tables 2b or 2c for the nonpoint, nonroad or onroad sources, we believe this information is inherent in the separate listing of annual, seasonal, and daily emissions in those tables. While we are proposing to remove all except the annual emissions from the requirements, it will still be necessary for data submitters to identify the emissions as annual, given that the data system will be able to optionally accept the other reporting types.

Emission Operating Type is required only for point source emissions. It is similarly necessary in order for the data system to distinguish between the minimally required emissions and the other optional operating types that the data system can also accept.

The fifth new item proposed to be added to the Table 2b emissions requirements is the Emissions Calculation Method. We are proposing this element to be required for point and nonpoint sources. It is a code which indicates how each emissions value was estimated or determined (e.g., by continuous emissions monitor or by stack test or by an average emission factor). The EPA believes this item is needed to evaluate the adequacy of any emissions value for the stated purposes of the NEI and to be able to select the most reliable emissions value where more than one is available to us. State reporters should have this information available to them in some form and should be able to add it to their electronic submittals with a minimal amount of added burden.

4. Clarification of Element Names and Usage for Controls

We are proposing to revise the data element names and clarify the usage conventions for four data elements related to emissions control devices for the point source facility inventory items. AERR Table 2a currently indicates these four elements as being required in the triennial reporting cycle: Primary Capture and Control Efficiencies; Total Capture and Control Efficiency; Control Device Type; and Rule Effectiveness. However, the EIS data system has separated the single element of Total Capture and Control efficiency into its two separate components, which the EIS names Percent Control Approach Capture Efficiency and Percent Control Measures Reduction Efficiency. The EPA believes that reporters would have to know or estimate these two items separately before combining them to report the current Total Capture and Control Efficiency element. Also, the control efficiency portion of the current element and, therefore, the combined Total, would be different for each pollutant controlled. This is indicated in the current element name Primary Capture and Control Efficiencies, which refers to only the control achieved by the primary, or first of potentially several control devices used on an emission process, along with the hood capture efficiency. The EPA does not believe that state reporters can reasonably estimate the separate control reduction efficiencies of each control device where more than one control device is used. For these reasons, we propose to eliminate the Primary Capture and Control Efficiencies element, and to split the Total Capture and Control Efficiency into a single Percent Control Approach Capture Efficiency along with a Percent Control Measures Reduction Efficiency for each pollutant controlled. In addition, although the current AERR does not explicitly require reporting of the pollutants being controlled, we believe the only reasonable interpretation of the existing requirement for reporting control efficiencies is for the pollutants controlled to be indicated with their efficiencies. We are, therefore, proposing to explicitly list a new data element Control Pollutant. Related to these emission control elements, we propose to revise the name of current AERR required elements Control Device Type and Rule Effectiveness to Control Measure and Percent Control Approach Effectiveness, respectively.

We are also proposing similar terminology and usage conventions for the nonpoint sources emission control data elements. As proposed, the element Total Capture and Control Efficiency would be renamed to Percent Control Measures Reduction Efficiency, and Rule Effectiveness would be renamed Percent Control Approach Effectiveness, consistent with the point source names. The existing required element for nonpoint sources named Rule Penetration would be renamed Percent Control Approach Penetration. We are also proposing to add the elements Control Measure and Control Pollutant. As with point sources, we believe the identification of the controlled pollutants is inherent in the requirement to report control reduction efficiency, which is a pollutant-specific value. Identification of the control measures for nonpoint sources is a new requirement that the EPA believes would not add significant burden, given the existing requirement to report control reduction efficiencies where they exist.

5. Revisions to Other Facility Inventory Element Names

We are proposing revisions to some of the terms in point source facility inventory Table 2a to clarify their meaning and promote consistency with the EIS data system names. We are proposing to revise FIPs code to State and County FIPs Code or Tribal Code. For each of the five existing stack and exit gas data elements, we are proposing to revise their names to add “Release Point” in order to be consistent with EIS names. We are also proposing to explicitly add five Unit of Measure data elements, one for each of the existing numerical stack and exit gas data elements. We believe the only reasonable interpretation of the existing requirements to report these five stack parameter numerical values is to also report the units of measure used for the numerical values. In addition, the use of the term “Emission Type” in existing Table 2a is an error; it was intended to read “Emission Operating Type,” but that element is now proposed to be moved to Table 2b since it describes the emissions reported, not the facility.

We propose to clarify that the existing requirement for Physical Address is implemented in the EIS data system by the four separate data elements of Location Address, Locality Name, State Code, and Postal Code.

6. Revisions To Simplify Reporting and Reduce Burden

We are proposing revisions to some data elements in the point source facility inventory Table 2a to simplify reporting and reduce burden where we believe it does not impact the usefulness of the data. We are revising the existing requirements for Exit Gas Velocity and Exit Gas Flow Rate to indicate that one or the other of these two is required, but not both. Because the release point stack diameter is also required, it is possible for users to derive the velocity or the flow rate from the other value, and so it is not necessary for states to report both, and it was not the EPA's intent to require both. To reduce burden, we are revising the existing rule terms X Stack Coordinate (longitude) and Y Stack Coordinate (latitude) by requiring these location values only at the facility level, rather than the stack level. It has been EPA's experience that most states do not have accurate location values for each individual stack within a facility; instead they report the same locational values for all stacks within a facility. Furthermore, the vast majority of facilities are geographically small enough that such a simplification does not reduce the usefulness of the data. Although we are proposing to relax the requirement to just facility locational data, the EIS data system does retain the ability to store individual stack locations separately from a single facility center location, and we encourage states to optionally report individual stack locations to add accuracy beyond the single facility center location. The EPA may also add such individual stack locations where the agency believes it has accurate data.

Lastly, to reduce burden, we are proposing to eliminate reporting of several data elements that appear in existing Tables 2a, 2b and 2c in various combinations for the four emissions source types. For all four emission source types, we are proposing to eliminate Inventory Start Date and End Date; Contact Name and Phone Number; and the four seasonal throughput percents. In addition, for the point, nonpoint, and nonroad source types, we are proposing to eliminate the three operating schedule elements: Hours Per Day, Days Per Week, and Weeks Per Year. Also for the point source type we are proposing to eliminate the following elements: Heat Content, Ash Content, Sulfur Content, Method Accuracy Description Codes, and Maximum Generator Nameplate Capacity. The EPA believes that the usefulness of the remaining data would not be significantly impacted by not collecting these data from the states.

Note that three other data elements are proposed to be removed for all four emissions source types for the reasons described above in paragraph D, “Removal of Requirements to Report Daily and Seasonal Emissions.” These elements are: Summer Day Emissions, Ozone Season Emissions, and Winter Work Weekday emissions of CO. All of the data elements proposed to be removed from the required reporting lists may still be voluntarily reported to the EIS data system.

IV. Statutory and Executive Order Reviews

A. Executive Order 12866: Regulatory Planning and Review and Executive Order 13563: Improving Regulations and Regulatory Review

This action is not a “significant regulatory action” under the terms of Executive Order 12866 (58 FR 51735, October 4, 1993) and is, therefore, not subject to review under Executive Orders 12866 and 13563 (76 FR 3821, January 21, 2011).

B. Paperwork Reduction Act

The information collection requirements in this proposed amendment have been submitted for approval to the Office of Management and Budget (OMB) under the Paperwork Reduction Act, 44 U.S.C. 3501 et seq. The information collection request (ICR) document prepared by EPA has been assigned EPA ICR number 2170.05.

The information collection requirements in the proposed amendments are mandatory for all states and territories (excluding tribal governments). These requirements are authorized by CAA section 110(a). The reported emissions data are used by the EPA to develop and evaluate states, regional, and national control strategies; to assess and analyze trends in criteria pollutant emissions; to identify emission and control technology research priorities; and to assess the impact of new or modified sources within a geographic area. The emission inventory data are also used by states to develop, evaluate, and revise their SIP.

The proposed amendments would reduce the information collection burden for each of the 104 respondents by about 91 labor hours per year from current levels. The annual average reporting burden for this collection (averaged over the first 3 years of this ICR) is estimated to decrease by a total of 9452 labor hours per year with a decrease in costs of $718,368. From the perspectives of the sources reporting to the states, the EPA does not believe that there will be any change in reporting burden resulting from these amendments because the same universe of sources will be required to report to the states. No capital/startup costs or operation and maintenance costs for monitoring equipment are attributable to the proposed amendments. The only costs associated with the proposed amendments are labor hours associated with collection, management, and reporting of the data through existing systems.

Burden means the total time, effort, or financial resources expended by persons to generate, maintain, retain, or disclose or provide information to or for a federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

An agency may not conduct or sponsor, and a person is not required to respond to a collection of information unless it displays a currently valid OMB control number. The OMB control numbers for EPA's regulations in 40 CFR part 51 are listed in 40 CFR part 9.

To comment on the agency's need for this information, the accuracy of the provided burden estimates, and any suggested methods for minimizing respondent burden, including the use of automated collection techniques, the EPA has established a public docket for the proposed rule, which includes this ICR, under Docket ID number OAR-2004-0489. Submit any comments related to the ICR for these proposed amendments to the EPA and OMB. See the ADDRESSES section at the beginning of this notice for where to submit comments to the EPA. Send comments to OMB at the Office of Information and Regulatory Affairs, Office of Management and Budget, 725 17th Street, NW., Washington, DC 20503, Attention: Desk Office for EPA. Since OMB is required to make a decision concerning the ICR between 30 and 60 days after June 20, 2013, a comment to OMB is best assured of having its full effect if OMB receives it by July 22, 2013. The final amendments will respond to any OMB or public comments on the information collection requirements contained in this proposal.

C. Regulatory Flexibility Act

The Regulatory Flexibility Act (RFA) generally requires an agency to prepare a regulatory flexibility analysis of any rule subject to notice and comment rulemaking requirements under the Administrative Procedure Act or any other statute unless the agency certifies that the rule will not have a significant economic impact on a substantial number of small entities. Small entities include small businesses, small organizations, and small governmental jurisdictions.

For purposes of assessing the impacts of this rule on small entities, small entity is defined as (1) a small business as defined by the Small Business Administration's (SBA) regulations at 13 CFR 121.201; (2) a small governmental jurisdiction that is a government of a city, county, town, school district or special district with a population of less than 50,000; and (3) a small organization that is any not-for-profit enterprise which is independently owned and operated and is not dominant in its field.

After considering the economic impacts of this rule on small entities, I certify that this action will not have a significant economic impact on a substantial number of small entities. This proposed action will not impose any new requirements on small entities. This action primarily impacts state and local agencies and does not regulate small entities. The proposed amendments correct and clarify emissions reporting requirements and provide states with additional flexibility in how they collect and report their emissions data. We continue to be interested in the potential impacts of the proposed rule on small entities and welcome comments on issues related to such impacts.

D. Unfunded Mandates Reform Act

This rule does not contain a federal mandate that may result in expenditures of $100 million or more for state, local, and tribal governments, in the aggregate, or the private sector in any 1 year. No significant costs are attributable to the proposed amendments; in fact, the proposed amendments are estimated to decrease costs associated with emissions inventory reporting. Thus, the proposed amendments are not subject to the requirements of sections 202 and 205 of the UMRA. In addition, the proposed amendments do not significantly or uniquely affect small governments because they contain no requirements that apply to such governments or impose obligations upon them. Therefore, the proposed amendments are not subject to section 203 of the UMRA.

E. Executive Order 13132: Federalism

This action does not have federalism implications. It will not have substantial direct effects on the states, on the relationship between the national government and the states, or on the distribution of power and responsibilities among the various levels of government, as specified in Executive Order 13132. The proposed amendments correct and clarify emissions reporting requirements and provide states with additional flexibility in how they collect and report their emissions data. Thus, Executive Order 13132 does not apply to this action. In the spirit of Executive Order 13132, and consistent with the EPA policy to promote communications between the EPA and state and local governments, the EPA specifically solicits comment on this proposed rule from state and local officials.

F. Executive Order 13175: Consultation and Coordination With Indian Tribal Governments

This action does not have tribal implications as specified in Executive Order 13175 (65 FR 67249, November 9, 2000). This proposed rule imposes no requirements on tribal governments. The proposed amendments correct and clarify emissions reporting requirements and provide states with additional flexibility in how they collect and report their emissions data. Under the Tribal Authority Rule, tribes are not required to report their emissions to us. Thus, Executive Order 13175 does not apply to this action. In the spirit of Executive Order 13175, the EPA specifically solicits additional comment on this proposed action from tribal officials.

G. Executive Order 13045: Protection of Children From Environmental Health and Safety Risks

The EPA interprets Executive Order 13045 (62 FR 19885, April 23, 1997) as applying only to those regulatory actions that concern health or safety risks, such that the analysis required under section 5-501 of the EO has the potential to influence the regulation. This action is not subject to Executive Order 13045 because it does not establish an environmental standard intended to mitigate health or safety risks.

H. Executive Order 13211: Actions Concerning Regulations That Significantly Affect Energy Supply, Distribution, or Use

This action is not a “significant energy action” as defined in Executive Order 13211, (66 FR 28355, May 22, 2001) because it is not likely to have a significant adverse effect on the supply, distribution, or use of energy. Further, we have concluded that the proposed amendments are not likely to have any adverse energy effects since the proposed amendments correct and clarify emissions reporting requirements and provide states with additional flexibility in how they collect and report their emissions data.

I. National Technology Transfer and Advancement Act

Section 112(d) of the National Technology Transfer Advancement Act of 1995 (NTTAA), Public Law 104-113; 15 U.S.C. 272 note) directs the EPA to use voluntary consensus standards in its regulatory activities and procurement activities unless to do so would be inconsistent with applicable law or otherwise impractical. Voluntary consensus standards are technical standards (e.g., materials specifications, test methods, sampling procedures, and business practices) that are developed or adopted by one or more voluntary consensus standards bodies. The NTTAA requires the EPA to provide Congress, through OMB, explanations when the agency decides not to use available and applicable voluntary consensus standards.

The proposed rulemaking does not involve technical standards. Therefore, the EPA is not considering the use of any voluntary consensus standards.

J. Executive Order 12898: Federal Actions To Address Environmental Justice in Minority Populations and Low-Income Populations

Executive Order (EO) 12898 (59 FR 7629 (Feb. 16, 1994)) establishes federal executive policy on environmental justice. Its main provision directs federal agencies, to the greatest extent practicable and permitted by law, to make environmental justice part of their mission by identifying and addressing, as appropriate, disproportionately high and adverse human health or environmental effects of their programs, policies, and activities on minority populations and low-income populations in the United States.

The EPA has determined that this proposed rule will not have disproportionately high and adverse human health or environmental effects on minority or low-income populations because it does not affect the level of protection provided to human health or the environment. This action establishes information reporting procedures for emissions of criteria air pollutants from stationary and mobile source but does not affect the quantities of the pollutants emitted.

List of Subjects in 40 CFR Part 51

Environmental Protection, Administrative practice and procedure, Air pollution control, Intergovernmental relations, Nitrogen oxides, Ozone, Particulate matter, Regional haze, Reporting and record keeping requirements, Sulfur dioxide.

Dated: June 6, 2013.
Bob Perciasepe,
Acting Administrator.

For the reasons stated in the preamble, title 40, chapter I, part 51 of the Code of Federal Regulations is proposed to be amended as follows:

PART 51—REQUIREMENTS FOR PREPARATION, ADOPTION, AND SUBMITTAL OF IMPLEMENTATION PLANS

1. This authority citation for part 51 continues to read as follows:

Authority: 23 U.S.C. 101; 42 U.S.C. 7401-7671q.

§ 51.10 [Removed and reserved]

2. Remove and reserve § 51.10.

3. Amend § 51.15 by:

a. Revising paragraphs (a)(2) and (a)(3);

b. Removing paragraphs (a)(4) and (a)(5);

c. Revising paragraphs (b)(2), (b)(3), and (b)(4);

d. Revising the first sentence in paragraphs (c) and (d); and

e. Removing paragraph (e).

The revisions read as follows:

§ 51.15 What data does my state need to report to EPA?

(a) * * *

(2) A state may, at its option, choose to report NOX and VOC summer day emissions as required under the Ozone Implementation Rule or report CO winter work weekday emissions for CO nonattainment areas or CO attainment areas with maintenance plans to the Emission Inventory System (EIS) using the data elements described in this subpart.

(3) A state may, at its option, include estimates of emissions for additional pollutants (such as hazardous air pollutants) in its emission inventory reports.

(b) * * *

(2) Nonpoint. States may choose to meet the requirements for some of their nonpoint sources by accepting the EPA's estimates for the sources for which the EPA makes calculations. In such instances, states are encouraged to review and update the activity values or other calculational inputs used by the EPA for these sources.

(3) Onroad and Nonroad mobile. Emissions for onroad and nonroad mobile sources must be reported as inputs to the latest EPA-required mobile emissions models, such as the Motor Vehicle Emissions Simulator (MOVES) for onroad sources or the National Mobile Inventory Model (NMIM) for nonroad sources. States may report, at their discretion, emissions computed from these models in addition to the model inputs. In lieu of submitting model inputs, California must submit resultant emission values from its EPA-approved models and tribes must submit resultant emissions values from the latest EPA-required mobile emissions models. In lieu of submitting any data, states may accept existing EPA emission estimates.

(4) Emissions for wild and prescribed fires are not required to be reported by states. If states wish to optionally report these sources, they must be reported to the events data category. This data category is a day-specific accounting of these large-scale but usually short duration emissions. Submissions must include both daily emissions estimates as well as daily acres burned values. In lieu of submitting this information, states may accept the EPA estimates or they may submit inputs to EPA's estimation approach.

(c) * * * You must report the data elements in Tables 2a and 2b in Appendix A of this subpart. * * *

(d) * * * We do not consider the data in Tables 2a and 2b in Appendix A of this subpart confidential, but some states limit release of this type of data. * * *

4. Amend § 51.20 by revising paragraphs (b) and (d) to read as follows:

§ 51.20 What are the emission thresholds that separate point and nonpoint sources?

* * * * *

(b) Sources that meet the definition of point source in this subpart must be reported as point sources. All pollutants specified in § 51.15(a) must be reported for point sources, not just the pollutant(s) that qualify the source as a point source.

* * * * *

(d) All stationary source emissions that are not reported as point sources must be reported as nonpoint sources. Episodic wind-generated particulate matter (PM) emissions from sources that are not major sources may be excluded, for example dust lifted by high winds from natural or tilled soil. Emissions of nonpoint sources should be aggregated to the resolution required by the EIS as described in the current National Emission Inventory (NEI) inventory year plan posted at http://www.epa.gov/ttn/chief/eiinformation.html. In most cases, this is county level and must be separated and identified by source classification code (SCC). Nonpoint source categories or emission events reasonably estimated by the state to represent a de minimis percentage of total county and state emissions of a given pollutant may be omitted.

(1) The reporting of wild and prescribed fires is encouraged but not required and should be done via only the “Events” data category.

(2) Agricultural fires (also referred to as crop residue burning) must be reported to the nonpoint data category.

5. Section 51.30 is revised to read as follows:

§ 51.30 When does my State report which emissions data to EPA?

All states are required to report two basic types of emission inventories to the EPA: an every-year inventory; and a triennial inventory.

(a) Every-year inventory. See Tables 2a and 2b of Appendix A of this subpart for the specific data elements to report every year.

(1) All states are required to report every year the annual (12-month) emissions of all pollutants listed in § 51.15(a)(1) from Type A (large) point sources, as defined in Table of Appendix A of this subpart. The first every-year cycle inventory will be for the 2009 inventory year and must be submitted to the EPA within 12 months, i.e., by December 31, 2010.

(2) In inventory years that fall under the triennial inventory requirements, the reporting required by the triennial inventory satisfies the every-year reporting requirements of paragraph (a) of this section.

(b) Triennial inventory. See Tables 2a and 2b to Appendix A of subpart A for the specific data elements that must be reported for the triennial inventories.

(1) All states are required to report for every third inventory year the annual (12-month) emissions of all pollutants listed in § 51.15(a)(1) from all point sources and nonpoint sources, as well as model inputs for onroad mobile sources and nonroad mobile sources. The first triennial inventory will be for the 2011 inventory and must be submitted to the EPA within 12 months, i.e., by December 31, 2012. Subsequent triennial inventories (2011, 2014, etc) will be due 12 months after the end of the inventory year, i.e., by December 31 of the following year.

(2) Any state with an area for which the EPA has made an 8-hour ozone nonattainment designation finding (regardless of whether that finding has reached its effective date) may choose to report summer day emissions of VOC and NOX from all point sources, nonpoint sources, onroad mobile sources, and nonroad mobile sources to the EIS using the data elements described in this subpart.

(3) States with CO nonattainment areas and states with CO attainment areas subject to maintenance plans may choose to report winter work weekday emissions of CO to the EIS using the data elements described in this subpart.

6. Section 51.35 is revised to read as follows:

§ 51.35 How can my state equalize the emission inventory effort from year to year?

(a) Compiling a triennial inventory means more effort every three years. As an option, your state may ease this workload spike by using the following approach:

(1) Each year, collect and report data for all Type A (large) point sources (this is required for all Type A point sources).

(2) Each year, collect data for one-third of your sources that are not Type A point sources. Collect data for a different third of these sources each year so that data has been collected for all of the sources that are not Type A point sources by the end of each three-year cycle. You must save three years of data and then report all emissions from the sources that are not Type A point sources on the triennial inventory due date.

(3) Each year, collect data for one-third of the nonpoint, nonroad mobile, and onroad mobile sources. You must save 3 years of data for each such source and then report all of these data on the triennial inventory due date.

(b) For the sources described in paragraph (a) of this section, your state will have data from 3 successive years at any given time, rather than from the single year in which it is compiled.

(c) If your state chooses the method of inventorying one-third of your sources that are not Type A point sources and triennial inventory nonpoint, nonroad mobile, and onroad mobile sources each year, your state must compile each year of the three-year period identically. For example, if a process has not changed for a source category or individual plant, your state must use the same emission factors to calculate emissions for each year of the three-year period. If your state has revised emission factors during the three years for a process that has not changed, you must compute previous years' data using the revised factor. If your state uses models to estimate emissions, you must make sure that the model is the same for all 3 years.

7. Section 51.40 is revised to read as follows:

§ 51.40 In what form and format should my state report the data to EPA?

You must report your emission inventory data to us in electronic form. We support specific electronic data reporting formats, and you are required to report your data in a format consistent with these. The term format encompasses the definition of one or more specific data fields for each of the data elements listed in Tables 2a and 2b in Appendix A of this subpart; allowed code values for certain data fields; transmittal information; and data table relational structure. Because electronic reporting technology may change, contact the EPA Emission Inventory and Analysis Group (EIAG) for the latest specific formats. You can find information on the current formats at the following Internet address: http://www.epa.gov/ttn/chief/eis/2011nei/xml_data_eis.pdf. You may also call the air emissions contact in your EPA Regional Office or our Info CHIEF help desk at (919) 541-1000 or send email to info.chief@epa.gov.

8. Section 51.50 is revised to read as follows:

§ 51.50 What definitions apply to this subpart?

Aircraft engine type means a code defining a unique combination of aircraft and engine used as an input parameter for calculating emissions from aircraft.

Annual emissions means actual emissions for a plant, point, or process that are measured or calculated to represent a calendar year.

Control measure means a unique code for the type of control device or operational measure (e.g., wet scrubber, flaring, process change, ban) used to reduce emissions.

Emission calculation method means the code describing how the emissions for a pollutant were calculated, e.g., by stack test, continuous emissions monitor, EPA emission factor, etc.

Emission factor means the ratio relating emissions of a specific pollutant to an activity throughput level.

Emission process identifier means a unique code for the process generating the emissions.

Emission operating type means the operational status of an emissions unit for the time period for which emissions are being reported, i.e., Routine, Startup, Shutdown, or Upset.

Emission type means the type of emissions produced for onroad and nonroad sources or the mode of operation for marine vessels.

Emissions year means the calendar year for which the emissions estimates are reported.

Facility site name means the name of the facility.

Facility site identifier means the unique code for a plant or facility treated as a point source, containing one or more pollutant-emitting units. The EPA's reporting format allows for state submittals to use either the state's data system identifiers or the EPA's Emission Inventory System identifiers.

Lead (Pb) means lead as defined in 40 CFR 50.12. Emissions of lead which occur either as elemental lead or as a chemical compound containing lead should be reported as the mass of the lead atoms only.

Mobile source means a motor vehicle, nonroad engine or nonroad vehicle, where:

(1) A motor vehicle is any self-propelled vehicle used to carry people or property on a street or highway;

(2) A nonroad engine is an internal combustion engine (including fuel system) that is not used in a motor vehicle or a vehicle used solely for competition, or that is not affected by sections 111 or 202 of the CAA; and

(3) A nonroad vehicle is a vehicle that is run by a nonroad engine and that is not a motor vehicle or a vehicle used solely for competition.

NAICS means North American Industry Classification System code. The NAICS codes are U.S. Department of Commerce's codes for categorizing businesses by products or services and have replaced Standard Industrial Classification codes.

Nitrogen oxides (NOX) means nitrogen oxides (NOX) as defined in 40 CFR 60.2 as all oxides of nitrogen except N2O. Nitrogen oxides should be reported on an equivalent molecular weight basis as nitrogen dioxide (NO2).

Nonpoint sources collectively represent individual sources that have not been inventoried as specific point or mobile sources. These individual sources treated collectively as nonpoint sources are typically too small, numerous, or difficult to inventory using the methods for the other classes of sources.

Particulate matter (PM) is a criteria air pollutant. For the purpose of this subpart, the following definitions apply:

(1) Filterable PM2.5 or Filterable PM10: Particles that are directly emitted by a source as a solid or liquid at stack or release conditions and captured on the filter of a stack test train. Filterable PM2.5 is particulate matter with an aerodynamic diameter equal to or less than 2.5 micrometers. Filterable PM10 is particulate matter with an aerodynamic diameter equal to or less than 10 micrometers.

(2) Condensable PM: Material that is vapor phase at stack conditions, but which condenses and/or reacts upon cooling and dilution in the ambient air to form solid or liquid PM immediately after discharge from the stack. Note that all condensable PM, if present from a source, is typically in the PM2.5 size fraction and, therefore, all of it is a component of both primary PM2.5 and primary PM10.

(3) Primary PM2.5: The sum of filterable PM2.5 and condensable PM.

(4) Primary PM10: The sum of filterable PM10 and condensable PM.

(5) Secondary PM: Particles that form or grow in mass through chemical reactions in the ambient air well after dilution and condensation have occurred. Secondary PM is usually formed at some distance downwind from the source. Secondary PM should not be reported in the emission inventory and is not covered by this subpart.

Percent control approach capture efficiency means the percentage of an exhaust gas stream actually collected for routing to a set of control devices.

Percent control approach effectiveness means the percentage of time or activity throughput that a control approach is operating as designed, including the capture and reduction devices. This percentage accounts for the fact that controls typically are not 100 percent effective because of equipment downtime, upsets and decreases in control efficiencies.

Percent control approach penetration means the percentage of a nonpoint source category activity that is covered by the reported control measures.

Percent control measures reduction efficiency means the net emission reduction efficiency across all emissions control devices. It does not account for capture device efficiencies.

Physical address means the location address (street address or other physical location description), locality name, state, and postal zip code of a facility. This is the physical location where the emissions occur; not the corporate headquarters or a mailing address.

Point source means large, stationary (non mobile), identifiable sources of emissions that release pollutants into the atmosphere. A point source is a facility that is a major source under 40 CFR part 70 for one or more of the pollutants for which reporting is required by § 51.15(a)(1). This does not include the emissions of hazardous air pollutants, which are not considered in determining whether a source is a point source under this subpart. The minimum point source reporting thresholds are shown in Table 1 of Appendix A.

Pollutant code means a unique code for each reported pollutant assigned by the reporting format specified by the EPA for each inventory year.

Release point apportionment percent means the average percentage(s) of an emissions exhaust stream directed to a given release point.

Release point exit gas flow rate means the numeric value of the flow rate of a stack gas.

Release point exit gas temperature means the numeric value of the temperature of an exit gas stream in degrees Fahrenheit.

Release point exit gas velocity means the numeric value of the velocity of an exit gas stream.

Release point identifier means a unique code for the point where emissions from one or more processes release into the atmosphere.

Release point stack diameter means the inner physical diameter of a stack.

Release point stack height means physical height of a stack above the surrounding terrain.

Release point type code means the code for physical configuration of the release point.

Reporting period type means the code describing the time period covered by the emissions reported, i.e., Annual, 5-month ozone season, summer day, or winter.

State and county FIPS code means the system of unique identifiers in the Federal Information Placement System (FIPS) used to identify states, counties and parishes for the entire United States, Puerto Rico, and Guam.

Source classification code (SCC) means a process-level code that describes the equipment and/or operation which is emitting pollutants.

Throughput means a measurable factor or parameter that relates directly or indirectly to the emissions of an air pollution source during the period for which emissions are reported. Depending on the type of source category, activity information may refer to the amount of fuel combusted, raw material processed, product manufactured, or material handled or processed. It may also refer to population, employment, or number of units. Activity throughput is typically the value that is multiplied against an emission factor to generate an emissions estimate.

Type A source means large point sources with a potential to emit greater than or equal to any of the thresholds listed in Table 1 of Appendix A of this subpart. If a source is a Type A source for any pollutant listed in Table 1, then the emissions for all pollutants required by § 51.15 must be reported for that source.

Unit design capacity means a measure of the size of a point source, based on the reported maximum continuous throughput or output capacity of the unit.

Unit identifier means a unique code for the unit that generates emissions, typically a physical piece of equipment or a closely related set of equipment.

VOC means volatile organic compounds. The EPA's regulatory definition of VOC is in 40 CFR 51.100.

9. Revise Table 1 to Appendix A of subpart A to read as follows:

Table 1 to Appendix A of Subpart A—Emission Thresholds ¹ by Pollutant for Treatment as Point Source Under 40 CFR 51.30
Pollutant | Every-year (Type A sources) ² | Triennial: Type B sources | Triennial: NAA sources ³
(1) SO2 | ≥2500 | ≥100 | ≥100
(2) VOC | ≥250 | ≥100 | O3 (moderate) ≥100
|  |  | O3 (serious) ≥ 50
|  |  | O3 (severe) ≥ 25
|  |  | O3 (extreme) ≥10
(3) NOX | ≥2500 | ≥100 | ≥100
(4) CO | ≥2500 | ≥1000 | O3 (all areas) ≥100
|  |  | CO (all areas) ≥100
(5) Lead |  | ≥0.5 | ≥0.5
(6) Primary PM10 | ≥250 | ≥100 | PM10 (moderate) ≥100
|  |  | PM10 (serious) ≥70
(7) Primary PM2.5 | ≥250 | ≥100 | ≥100
(8) NH3 4 | ≥250 | ≥100 | ≥100
¹ Thresholds for point source determination shown in tons per year of potential to emit as defined in 40 CFR part 70. Reported emissions should be in actual tons emitted for the required time period.
² Type A sources are a subset of the Type B sources and are the larger emitting sources by pollutant.
³ NAA = Nonattainment Area. The point source reporting thresholds vary by attainment status for VOC, CO, and PM10.
⁴ NH3 threshold applies only in areas where ammonia emissions are a factor in determining whether a source is a major source, i.e., where ammonia is considered a significant precursor of PM2.5.

10. Revise Table 2a to Appendix A of Subpart A to read as follows:

Table 2a to Appendix A of Subpart A—Facility Inventory ¹ Data Elements for Reporting Emissions From Point Sources, Where Required by 40 CFR 51.30
Data Elements
(1) Emissions Year.
(2) State and County FIPS Code or Tribal Code.
(3) Facility Site Identifier.
(4) Unit Identifier.
(5) Emission Process Identifier.
(6) Release Point Identifier.
(7) Facility Site Name.
(8) Physical Address (Location Address, Locality Name, State and Postal Code).
(9) Latitude and Longitude at facility level.
(10) Source Classification Code.
(11) Aircraft Engine Type (where applicable).
(12) Facility Site Status and Year.
(13) Release Point Stack Height and Unit of Measure.
(14) Release Point Stack Diameter and Unit of Measure.
(15) Release Point Exit Gas Temperature and Unit of Measure.
(16) Release Point Exit Gas Velocity or Release Point Exit Gas Flow Rate and Unit of Measure.
(17) Release Point Status and Year.
(18) NAICS at facility level.
(19) Unit Design Capacity and Unit of Measure (for some unit types).
(20) Unit Type.
(21) Unit Status and Year.
(22) Release Point Apportionment Percent.
(23) Release Point Type.
(24) Control Measure and Control Pollutant (where applicable).
(25) Percent Control Approach Capture Efficiency (where applicable).
(26) Percent Control Measures Reduction Efficiency (where applicable).
(27) Percent Control Approach Effectiveness (where applicable).
¹ Facility Inventory data elements need only be reported once to the EIS and then revised if needed. They do not need to be reported for each triennial or every-year emissions inventory.

11. Table 2b to Appendix A of Subpart A is revised to read as follows:

Table 2b to Appendix A of Subpart A—Data Elements for Reporting Emissions From Point, Nonpoint, Onroad Mobile and Nonroad Mobile Sources, Where Required by 40 CFR 51.30
Data elements | Point | Nonpoint | Onroad | Nonroad
(1) Emissions Year | Y | Y | Y | Y
(2) FIPS code | Y | Y | Y | Y
(3) Shape Identifiers (where applicable) |  | Y |  |
(4) Source Classification Code |  | Y | Y | Y
(5) Emission Type (where applicable) |  | Y | Y | Y
(8) Emission Factor | Y | Y |  |
(9) Throughput (Value, Material, Unit of Measure, and Type) | Y | Y | Y |
(10) Pollutant Code | Y | Y | Y | Y
(11) Annual Emissions and Unit of Measure | Y | Y | Y | Y
(12) Reporting Period Type (Annual) | Y | Y | Y | Y
(13) Emission Operating Type (Routine) | Y |  |  |
(14) Emission Calculation Method | Y | Y |  |
(15) Control Measure and Control Pollutant (where applicable) |  | Y |  |
(16) Percent Control Measures Reduction Efficiency (where applicable) |  | Y |  |
(17) Percent Control Approach Effectiveness (where applicable) |  | Y |  |
(18) Percent Control Approach Penetration (where applicable) |  | Y |  |

12. Amend § 51.122 by:

a. Revising paragraph (c);

b. Removing and reserving paragraph (d); and

c. Revising paragraph (f).

The revisions read as follows:

§ 51.122 Emissions reporting requirements for SIP revisions relating to budgets for NOX emissions.

* * * * *

(c) Each revision must provide for periodic reporting by the state of NOX emissions data to demonstrate whether the state's emissions are consistent with the projections contained in its approved SIP submission. The data availability requirements in § 51.116 must be followed for all data submitted to meet the requirements of paragraph (c) of this section.

* * * * *

(f) Reporting schedules. Data collection is to begin during the ozone season 1 year prior to the state's NOX SIP Call compliance date.

[FR Doc. 2013-14628 Filed 6-19-13; 8:45 am]

BILLING CODE 6560-50-P